DEPARTMENT OF ENERGY

Federal Energy Regulatory Commission

Combined Notice of Filings #2

Take notice that the Commission received the following electric rate filings:

Docket Numbers: ER25-2788-001.

Applicants: PJM Interconnection, L.L.C.

Description: Tariff Amendment: Amendment to ISA, SA No. 6834; Queue No. AE2-113—Errata Filing to be effective 9/2/2025.

Filed Date: 7/3/25.

Accession Number: 20250703-5136.

Comment Date: 5 p.m. ET 7/24/25.

Docket Numbers: ER25-2789-000.

Applicants: California Independent System Operator Corporation.

Description: § 205(d) Rate Filing: 2025-07-03 WEIM Implementation Agreement between IID & CAISO to be effective 9/2/2025.

Filed Date: 7/3/25.

Accession Number: 20250703-5122.

Comment Date: 5 p.m. ET 7/24/25.

Docket Numbers: ER25-2790-000.

Applicants: PJM Interconnection, L.L.C.

Description: § 205(d) Rate Filing: Amendment to WMPA, Service Agreement No. 6868; Queue No. AF2-165 to be effective 9/6/2025.

Filed Date: 7/7/25.

Accession Number: 20250707-5024.

Comment Date: 5 p.m. ET 7/28/25.

Docket Numbers: ER25-2791-000.

Applicants: Lakeside Solar, LLC.

Description: Request for Limited and Prospective Waiver, et al. of Lakeside Solar, LLC.

Filed Date: 7/3/25.

Accession Number: 20250703-5177.

Comment Date: 5 p.m. ET 7/24/25.

Docket Numbers: ER25-2792-000.

Applicants: Midcontinent Independent System Operator, Inc., American Transmission Company LLC.

Description: § 205(d) Rate Filing: American Transmission Company LLC submits tariff filing per 35.13(a)(2)(iii: 2025-07-07_SA 4333 ATC-Degas 1st Rev ESA to be effective 7/8/2025.

Filed Date: 7/7/25.

Accession Number: 20250707-5039.

Comment Date: 5 p.m. ET 7/28/25.

Docket Numbers: ER25-2793-000.

Applicants: PJM Interconnection, L.L.C.

Description: § 205(d) Rate Filing: Original CSA Service Agreement No. 7705; Project Identifier No. J982 to be effective 6/6/2025.

Filed Date: 7/7/25.

Accession Number: 20250707-5062.

Comment Date: 5 p.m. ET 7/28/25.

Docket Numbers: ER25-2794-000.

Applicants: PJM Interconnection, L.L.C.

Description: § 205(d) Rate Filing: Original CSA, Service Agreement No. 7704; Project Identifier No. MISO J1181 to be effective 6/6/2025.

Filed Date: 7/7/25.

Accession Number: 20250707-5066.

Comment Date: 5 p.m. ET 7/28/25.

Docket Numbers: ER25-2795-000.

Applicants: PJM Interconnection, L.L.C.

Description: § 205(d) Rate Filing: Original CSA Service Agreement No. 7706; Project Identifier No. J1084 to be effective 6/6/2025.

Filed Date: 7/7/25.

Accession Number: 20250707-5077.

Comment Date: 5 p.m. ET 7/28/25.

Docket Numbers: ER25-2796-000.

Applicants: Midcontinent Independent System Operator, Inc., Ameren Transmission Company of Illinois.

Description: § 205(d) Rate Filing: Ameren Transmission Company of Illinois submits tariff filing per 35.13(a)(2)(iii: 2025-07-07 SA 4492 ATXI-Four Creeks E&P (J2275) to be effective 7/8/2025.

Filed Date: 7/7/25.

Accession Number: 20250707-5093.

Comment Date: 5 p.m. ET 7/28/25.

Docket Numbers: ER25-2797-000.

Applicants: Dodge County Wind, LLC.

Description: § 205(d) Rate Filing: Application for Market-Based Rate Authorization—Dodge County Wind, LLC to be effective 9/6/2025.

Filed Date: 7/7/25.

Accession Number: 20250707-5119.

Comment Date: 5 p.m. ET 7/28/25.

Docket Numbers: ER25-2798-000.

Applicants: PJM Interconnection, L.L.C.

Description: Tariff Amendment: Cancellation of NSA, SA No. 7076; Queue No. AD1-031 to be effective 8/1/2025.

Filed Date: 7/7/25.

Accession Number: 20250707-5121.

Comment Date: 5 p.m. ET 7/28/25.

Docket Numbers: ER25-2799-000.

Applicants: Power Authority of the State of New York, New York Independent System Operator, Inc.

Description: § 205(d) Rate Filing: New York Independent System Operator, Inc. submits tariff filing per 35.13(a)(2)(iii: NYISO-NYPA 205: Second Amended LGIA Cider Solar SA2773 (CEII) to be effective 6/20/2025.

Filed Date: 7/7/25.

Accession Number: 20250707-5123.

Comment Date: 5 p.m. ET 7/28/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 7, 2025.
Carlos D. Clay,
Deputy Secretary.

[FR Doc. 2025-12848 Filed 7-9-25; 8:45 am]

BILLING CODE 6717-01-P